DEPARTMENT OF DEFENSE

Department of the Air Force

[Docket ID USAF-2014-0017]

Proposed Collection; Comment Request

AGENCY: Department of the Air Force, Department of Defense (DoD).

ACTION: Notice.

SUMMARY: In compliance with Section 3506(c)(2)(A) of the Paperwork Reduction Act of 1995, the Department of the Air Force, Director of Bases, Ranges, and Airspace, Directorate of Operations, Deputy Chief of Staff, Operations, Plans and Requirements, announces a proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the HQ USAF/A3O-B, 1480 Air Force Pentagon, Washington, DC 20330-1480, ATTN: Mr. Tim Bennett, or call 703-695-2986.

SUPPLEMENTARY INFORMATION:

Title; Associated Form; and OMB Number: Civil Aircraft Certificate of Insurance, DD Form 2400; Civil Aircraft Landing Permit, DD Form 2401; and DD Form 2402, Civil Aircraft Hold Harmless Agreement, OMB Control Number 0701-0050.

Needs and Uses: The information collection requirement is necessary to ensure that the security and operational integrity of military airfields are maintained; to identify the aircraft operator and the aircraft to be operated; to avoid competition with the private sector by establishing the purpose for use of military airfields; and to ensure the U.S. government is not held liable if the civil aircraft becomes involved in an accident or incident while using military airfields, facilities, and services.

Affected Public: Individuals or households.

Annual Burden Hours: 1,800.

Number of Respondents: 3,600.

Responses per Respondent: 3.

Average Burden per Response: 10 minutes.

Frequency: On occasion.

Respondents are civil aircraft owners/operators who are requesting authorized landings at DoD airfields. These requestors are required to submit the indicated DD Forms (2400, 2401, and 2402). The completed forms are included are maintained by HQ USAF/A3O-B for 2 years for any required review. These forms ensure only authorized civil aircraft owners/operators are authorized access to DoD airfields.

Dated: May 22, 2014.
Aaron Siegel,
Alternate OSD Federal Register Liaison Officer, Department of Defense.

[FR Doc. 2014-12395 Filed 5-28-14; 8:45 am]

BILLING CODE 5001-05-P